SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Request for Withdrawal of Application—0960-0015. Form SSA-521 is completed by the Social Security Administration (SSA) when an individual wishes to withdraw his or her application for Social Security benefits. The respondents are individuals who wish to withdraw their applications for benefits.

Number of Respondents: 100,000.

Frequency of Response: 1.

Average Burden Per Response: 5 minutes.

Estimated Annual Burden: 8,333 hours.

2. Statement of Self-Employment Income—0960-0046. SSA uses the information on Form SSA-766 to expedite the payment of Social Security Benefits to an individual who is self-employed and who is establishing insured status in the current year. The respondents are self-employed persons.

Number of Respondents: 5,000.

Frequency of Response: 1.

Average Burden Per Response: 5 minutes.

Estimated Annual Burden: 417 hours.

3. Certification by Religious Group—0960-0093. The data that SSA collects via form SSA-1458 will be used to determine if the religious group meets the qualifications set out in section 1402(g) of the Internal Revenue Code permitting its members to be exempt from payment of certain Social Security taxes. The respondents are spokespersons for a religious group or sect.

Number of Respondents: 180.

Frequency of Response: 1.

Average Burden Per Response: 15 minutes.

Estimated Annual Burden: 45 hours.

4. You Can Make Your Payment by Credit Card—0960-0462. Forms SSA-4588 and SSA-4589 provide information to SSA on the debtor's name, Social Security Number, credit card number, the amount being paid and the credit card type so that a remittance can be credited to the debtor's account. The respondents are Title II (Old-Age, Survivors and Disbility Insurance) and Title XVI (Supplemental Security Income) debtors; and citizens requesting material through SSA.

Number of Respondents: 19,000.

Frequency of Response: 1.

Average Burden Per Response: 5 minutes.

Estimated Annual Burden: 1,583 hours.

5. Statement Regarding Contributions—0960-0020. To determine eligibility of child applicants to Social Security benefits, SSA must collect information about the source of support and the amount of contributions. SSA uses the form SSA-783 for this purpose. The respondents are individuals who provide information to SSA about the child's sources of support.

Number of Respondents: 30,000.

Frequency of Response: 1.

Average Burden Per Response: 15 minutes.

Estimated Annual Burden: 7,500 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

Statement of Claimant or Other Person—0960-0045. In special situations when there is no standard form or questionnaire, Form SSA-795 is used by SSA to obtain information from claimants or other persons having knowledge of facts in connection with claims for Social Security or Supplementary Supplemental Security Income. The information collected is used to process claims for benefits. The respondents are applicants for SocialSecurity or Supplemental Security Income benefits.

Number of Respondents: 305,500.

Frequency of Response: 1.

Average Burden Per Response: 15 minutes.

Estimated Annual Burden: 76,375 hours.

(SSA Address) Social Security Administration, DCFAM, Attn: Frederick W. Brickenkamp, 6401 Security Blvd., Baltimore, MD 21235

(OMB Address) Office of Management and Budget, OIRA, Attn: Desk Officer for SSA, New Executive Office Building, Room 10230, 725 17th St., NW, Washington, DC 20503

Dated: May 25, 2000.
Frederick W. Brickenkamp,
Reports Clearance Officer, Social Security Administration.

[FR Doc. 00-13608 Filed 5-31-00; 8:45 am]

BILLING CODE 4191-02-P